DEPARTMENT OF DEFENSE

48 CFR Parts 245 and 252

[DFARS Case 92-D024]

Defense Federal Acquisition Regulation Supplement; Demilitarization

AGENCY: Department of Defense (DoD).

ACTION: Proposed rule; withdrawal.

SUMMARY: DoD is withdrawing the proposed rule published at 62 FR 30832 on June 5, 1997. The rule proposed amendments to the Defense Federal Acquisition Regulation Supplement (DFARS) to address demilitarization of excess property under Government contracts. DoD 4160.21-M-1, Defense Demilitarization Manual, is presently being revised to define DoD policy on this subject. After the revised manual is issued, DoD will reevaluate the need for DFARS changes pertaining to demilitarization.

FOR FURTHER INFORMATION CONTACT: Mr. Rick Layser, Defense Acquisition Regulations Council, OUSD(AT&L)DP(DAR), IMD 3D139, 3062 Defense Pentagon, Washington, DC 20301-3062. Telephone (703) 602-0293; facsimile (703) 602-0350. Please cite DFARS Case 92-D024.

Michele P. Peterson,
Executive Editor, Defense Acquisition Regulations Council.

[FR Doc. 02-10099 Filed 4-25-02; 8:45 am]

BILLING CODE 5001-08-U